DEPARTMENT OF HOMELAND SECURITY

Federal Emergency Management Agency

[Docket ID FEMA-2019-0002; Internal Agency Docket No. FEMA-B-1926]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Pima | Town of Oro Valley (18-09-2032P) | The Honorable Joe Winfield, Mayor, Town of Oro Valley, Town Hall, 11000 North La Cañada Drive, Oro Valley, AZ 85737 | Planning and Zoning Department, 11000 North La Cañada Drive, Oro Valley, AZ 85737 | https://msc.fema.gov/portal/advanceSearch | Aug. 6, 2019 | 040109
Florida: St. Johns | Unincorporated Areas of St. Johns County (19-04-0059P) | Mr. Paul M. Waldron, Chair, St. Johns County Board of Commissioners, 500 San Sebastian View, St. Augustine, FL 32084 | St. Johns County Administration Building, 4020 Lewis Speedway, St. Augustine, FL 32085 | https://msc.fema.gov/portal/advanceSearch | Jul. 24, 2019 | 125147
Illinois:
Cook | Village of Franklin Park (18-05-6092P) | The Honorable Barrett F. Pedersen, Village President, Village of Franklin Park, 9500 Belmont Avenue, Franklin Park, IL 60131 | Village Hall, 9500 Belmont Avenue, Franklin Park, IL 60131 | https://msc.fema.gov/portal/advanceSearch | Aug. 2, 2019 | 170094
Will | Unincorporated Areas of Will County (18-05-5975P) | The Honorable Lawrence M. Walsh, County Executive, Will, County, Will County Office Building, 302 North Chicago Street, Joliet, IL 60432 | Land Use Department, 58 East Clinton Street, Suite 100, Joliet, IL 60432 | https://msc.fema.gov/portal/advanceSearch | Jul. 12, 2019 | 170695
Will | Village of Romeoville (18-05-5975P) | The Honorable John D. Noak, Mayor, Village of Romeoville, 1050 West Romeo Road, Romeoville, IL 60446 | Village Hall, 1050 West Romeo Road, Romeoville, IL 60446 | https://msc.fema.gov/portal/advanceSearch | Jul. 12, 2019 | 170711
Minnesota: Dakota | City of Lakeville (18-05-4867P) | The Honorable Douglas P. Anderson, Mayor, City of Lakeville, 20195 Holyoke Avenue, Lakeville, MN 55044 | City Hall, 20195 Holyoke Avenue, Lakeville, MN 55044 | https://msc.fema.gov/portal/advanceSearch | Aug. 5, 2019 | 270107
Nevada:
Clark | City of Las Vegas (18-09-1695P) | The Honorable Carolyn G. Goodman, Mayor, City of Las Vegas, City Hall, 495 South Main Street, Las Vegas, NV 89101 | Planning and Zoning Department, 333 North Rancho Drive, Las Vegas, NV 89106 | https://msc.fema.gov/portal/advanceSearch | Aug. 1, 2019 | 325276
Clark | Unincorporated Areas of Clark County (18-09-1695P) | The Honorable Marilyn Kirkpatrick, Chair, Board of Commissioners, Clark County, 500 South Grand Central Parkway, 6th Floor, Las Vegas, NV 89106 | Clark County, Office of the Director of Public Works, 500 South Grand Central Parkway, 2nd Floor, Las Vegas, NV 89155 | https://msc.fema.gov/portal/advanceSearch | Aug. 1, 2019 | 320003
New York: Rockland | Town of Clarkstown (19-02-0292P) | The Honorable George Hoehmann, Supervisor, Town of Clarkstown, Town Hall, 10 Maple Avenue, New City, NY 10956 | Town Hall, 10 Maple Avenue, New City, NY 10956 | https://msc.fema.gov/portal/advanceSearch | Sep. 27, 2019 | 360679
Ohio: Franklin | City of Grove City (18-05-5403P) | The Honorable Richard L. Stage, Mayor, City of Grove City, City Hall, 4035 Broadway, Grove City, OH 43123 | City Hall, 4035 Broadway, Grove City, OH 43123 | https://msc.fema.gov/portal/advanceSearch | Jul. 19, 2019 | 390173
Wisconsin:
Kenosha | City of Kenosha (18-05-5192P) | The Honorable John M. Antaramian, Mayor, City of Kenosha, City Hall, 625 52nd Street, Room 300, Kenosha, WI 53140 | City Hall, 625 52nd Street, Kenosha, WI 53140 | https://msc.fema.gov/portal/advanceSearch | Jul. 17, 2019 | 550209
Milwaukee | City of Milwaukee (18-05-6243P) | The Honorable Tom Barrett, Mayor, City of Milwaukee, 200 East Wells Street, Room 201, Milwaukee, WI 53202 | City Hall, 200 East Wells Street, Milwaukee, WI 53202 | https://msc.fema.gov/portal/advanceSearch | Aug. 2, 2019 | 550278

[FR Doc. 2019-08697 Filed 4-29-19; 8:45 am]

BILLING CODE 9110-12-P